DEPARTMENT OF THE INTERIOR

Fish and Wildlife Service

[FWS-R2-ES-2025-0053; FXES11140200000-256-FF02ENEH00]

Notice of Availability; Crossroads-Hobbs-Roadrunner Transmission Project Habitat Conservation Plan and Draft Environmental Assessment; Roosevelt and Lea Counties, New Mexico

AGENCY: Fish and Wildlife Service, Interior.

ACTION: Notice of availability; request for comments.

SUMMARY: We, the U.S. Fish and Wildlife Service, received an application from Nextera Energy Transmission Southwest, LLC for an incidental take permit (permit) supported by the Crossroads-Hobbs-Roadrunner Transmission Project: Dunes Sagebrush Lizard Habitat Conservation Plan (CTHCP) in Roosevelt and Lea counties, New Mexico. The CTHCP includes a proposed plan to build 137 miles of 345-kV transmission line in Roosevelt and Lea Counties. With this notice, we announce the availability for public comment of the proposed CTHCP and the draft environmental assessment (draft EA). If approved, the requested permit would authorize incidental take of the dunes sagebrush lizard. We invite comments from the public and Federal, Tribal, State, and local governments.

DATES: We must receive your written comments on or before December 31, 2025.

ADDRESSES:

Obtaining Documents: The documents this notice announces, as well as any comments and materials that we receive, will be available for public inspection online in Docket No. FWS-R2-ES-2025-0053 at https://www.regulations.gov.

Submitting Comments: If you wish to submit comments on any of the documents, you may do so in writing by one of the following methods:

• Online: https://www.regulations.gov. Follow the instructions for submitting comments on Docket No. FWS-R2-ES-2025-0053.

• U.S. Mail: Public Comments Processing; Attn: Docket No. FWS-R2-ES-2025-0053; U.S. Fish and Wildlife Service; MS: PRB/3W; 5275 Leesburg Pike; Falls Church, VA 22041-3803.

FOR FURTHER INFORMATION CONTACT: Shawn Sartorius, Project Leader, U.S. Fish and Wildlife Service Ecological Services, New Mexico Ecological Services Field Office; telephone 505-248-6419; email Shawn_Sartorius@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), make available for public comment the application submitted by Nextera Energy Transmission Southwest, LLC (NEET SW; applicant) for an incidental take permit (permit) under section 10(a)(1)(B) of the Endangered Species Act (ESA; 16 U.S.C. 1531 et seq.). The application is supported by the proposed Crossroads-Hobbs-Roadrunner Transmission Project: Dunes Sagebrush Lizard Habitat Conservation Plan (CTHCP) and the associated draft EA. The CTHCP addresses the effects of installing a 137-mile (mi) 345-kilovolt (kV) transmission line and associated access roads in Roosevelt and Lea Counties, New Mexico, on the dunes sagebrush lizard (Sceloporus arenicolus; DSL).

If approved, the proposed CTHCP would offset impacts to 277 acres (ac) of DSL habitat through the establishment of conservation easements on up to 6,000 ac of private land. In addition, the CTHCP would also establish Land Use Restriction or Condition (LURCs) on up to 20,000 ac of New Mexico State Land Office lands to improve habitat connectivity for the DSL for 35 years. The conservation easements will be finalized within 18 months of the start of construction in DSL habitat.

Authorized incidental take of the DSL would result from construction, operation, and maintenance of the transmission line and associated access roads along with loss of the shinnery oak sand dune habitat on which the DSL depends.

The associated draft EA has been prepared in accordance with the requirements of the National Environmental Policy Act (NEPA; 42 U.S.C. 4321 et seq.). The draft EA evaluates the impacts of, and alternatives to, issuing the permit for the Crossroads-Hobbs-Roadrunner transmission line project.

Background

Section 9 of the ESA and our implementing regulations at 50 CFR part 17 prohibit the “take” of fish or wildlife species listed as endangered or threatened. Take is defined under the ESA as to “harass, harm, pursue, hunt, shoot, wound, kill, trap, capture, or collect listed animal species, or to attempt to engage in such conduct” (16 U.S.C. 1538). However, under section 10(a) of the ESA, we may issue permits to authorize incidental take of listed species. “Incidental take” is defined by the ESA as take that is incidental to, and not the purpose of, carrying out an otherwise lawful activity. Regulations governing such take of endangered and threatened species are found at 50 CFR 17.21-22 and 50 CFR 17.31-32, respectively.

Proposed Action

The proposed action is the issuance of an incidental take permit (permit) under section 10(a)(1)(B) of the ESA supported by proposed Crossroads-Hobbs-Roadrunner Transmission Project: Dunes Sagebrush Lizard Habitat Conservation Plan (CTHCP). The permit duration would be 60 years, expiring in 2085, at which time NEET SW plans to either renew the permit or decommission the transmission line.

The proposed project includes the construction, operation, and maintenance of a new 137-mi 345-kV transmission line and associated facilities. The proposed line would connect the Crossroads, Hobbs, and Roadrunner substations in Lea and Roosevelt counties, New Mexico. The proposed project includes a 150-foot right-of-way consisting of approximately 2,506 ac, 141 ac of temporary laydown yards, 359 ac of access roads, and 926 transmission poles.

The CTHCP's covered activities are limited to actions within the permit area that are reasonably certain to take DSL. The covered activities will result in impacts to 277 ac of DSL habitat and include: construction and installation of 94 transmission poles and associated maintenance areas, line splicing areas, tensioning and pulling sites, hazard tree removal, emergency response, approximately 16 mi of access roads, general operations and maintenance activities, vegetation maintenance, decommissioning, and repower/recommissioning.

Impacts and take resulting from the covered activities will be minimized and mitigated to the maximum extent practicable through the implementation of minimization measures, as described in section 6 of the CTHCP, and the placing of up to approximately 6,000 ac of private land in conservation easements (of which approximately 3,678 ac fall within suitable DSL habitat). The location of the conservation easements will be determined based on further negotiations. In addition, although not considered mitigation for impacts to DSL, NEET SW has a goal of conserving 20,000 ac of New Mexico State Land Office lands under Land Use Restriction or Condition (LURCs). The total acreage and location of LURCs is subject to negotiation.

The conservation goal for both the conservation easement lands and lands covered by LURCs would be to connect existing conservation lands east of Highway 206 to existing conservation lands west of Highway 206 to create a large contiguous landscape protected from further large-scale development and prevent future DSL habitat loss and fragmentation.

Alternatives

We are considering one alternative to the proposed action as part of this process, the no action alternative. Under the no action alternative, the Service would not approve the proposed CTHCP and would not issue the permit. Under this alternative, as stated in section 8.2 of the CTHCP, the transmission line would not be built.

Next Steps

We will evaluate the permit application, draft EA, and comments we receive to determine whether the application meets the requirements of the ESA, NEPA, and their implementing regulations. If we determine that all requirements are met, we will approve the CTHCP and issue the permit under section 10(a)(1)(B) of the ESA to the applicant. Our approval will be in accordance with the terms of the CTHCP and specific terms and conditions of the authorizing permit. We will not make our final decision until after the 30-day comment period ends and we have fully considered all comments received during the public comment period.

Public Availability of Comments

All comments we receive become part of the public record associated with this action. If you submit a comment at https://www.regulations.gov, your entire comment, including any personal identifying information, will be posted on the website. If you submit a hardcopy comment that includes personal identifying information, such as your address, phone number, or email address, you should be aware that your entire comment, including your personal identifying information, may be made publicly available at any time. While you can ask us in your hardcopy document to withhold your personal identifying information from public review, we cannot guarantee that we will be able to do so. Moreover, all submissions from organizations or businesses, and from individuals identifying themselves as representatives or officials of organizations or businesses, will be made available for public disclosure in their entirety.

Authority

We provide this notice under the authority of section 10(c) of the Endangered Species Act and its implementing regulations (50 CFR 17.22 and 17.32) and NEPA (42 U.S.C. 4321 et seq.).

Leston Jacks,
Acting Regional Director, Southwest Region, U.S. Fish and Wildlife Service.

[FR Doc. 2025-21599 Filed 11-28-25; 8:45 am]

BILLING CODE 4333-15-P